SMALL BUSINESS ADMINISTRATION

[Disaster Declaration #21176 and #21177; TEXAS Disaster Number TX-20058]

Presidential Declaration Amendment of a Major Disaster for Public Assistance Only for the State of Texas

AGENCY: U.S. Small Business Administration.

ACTION: Amendment 7.

SUMMARY: This is an amendment of the Presidential declaration of a major disaster for Public Assistance Only for the State of Texas (FEMA-4879-DR), dated July 6, 2025.

Incident: Severe Storms, Straight-line Winds, and Flooding.

DATES: Issued on August 19, 2025.

Incident Period: July 2, 2025 through July 18, 2025.

Physical Loan Application Deadline Date: September 4, 2025.

Economic Injury (EIDL) Loan Application Deadline Date: April 6, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for Private Non-Profit organizations in the State of Texas, dated July 6, 2025, is hereby amended to include the following areas as adversely affected by the disaster.

Primary Counties: Uvalde.

All other information in the original declaration remains unchanged.

(Catalog of Federal Domestic Assistance Number 59008)

(Authority: 13 CFR 1234.3(b).)

James Stallings,
Associate Administrator, Office of Disaster Recovery & Resilience.

[FR Doc. 2025-16219 Filed 8-22-25; 8:45 am]

BILLING CODE 8026-09-P